SECURITIES AND EXCHANGE COMMISSION

[File No. 1-9401]

Issuer Delisting; Notice of Application To Withdraw From Listing and Registration on the Pacific Exchange, Inc. (Thermwood Corporation, Common Stock, No Par value)

October 24, 2001.

Thermwood Corporation, an Indiana corporation (“Issuer”), has filed an application with the Securities and Exchange Commission (“Commission”), pursuant to section 12(d) of the Securities Exchange Act of 1934 (“Act”) ¹ and rule 12d2-2(d) thereunder ² to withdraw its Common Stock, no par value (“Security”) from listing and registration on the Pacific Exchange, Inc. (“PCX”).

¹ 15 U.S.C. 781(d).

² 17 CFR 240.12d2-2(d).

The Board of Directors (“Board”) of the Issuer approved a resolution on October 12, 2001 to withdraw its Security from listing on the Exchange. The Board represents that the advantages of being a reporting company under the Act do not offset the cost associated with the SEC's reporting requirements. In addition, the Security is thinly traded and is held by less than 100 shareholders.

The Issuer states in its application that it has met the requirements of the PCX by complying with all applicable laws in effect in the state of Indiana, in which it is incorporated, and with the PCX's rules governing an issuer's voluntary withdrawal of a security from listing and registration. The Issuer's application relates solely to the withdrawal of the Security from the PCX and registration under section 12(b) of the Act ³ and shall not affect its obligation to be registered under section 12(g) of the Act.⁴

³ 15 U.S.C. 781(b).

⁴ 15 U.S.C. 781(g).

Any interested person may, on or before November 14, 2001, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.⁵

⁵ 17 CFR 200.30-3(a)(1).

For the Commission, by the Division of Market Regulation, pursuant to delegated authority.
Jonathan G. Katz,
Secretary.

[FR Doc. 01-27306 Filed 10-29-01; 8:45 am]

BILLING CODE 8010-01-M